DEPARTMENT OF COMMERCE

National Oceanic and Atmospheric Administration

50 CFR Part 648

[Docket No. 200204-0043]

RIN 0648-XX032

Atlantic Surfclam and Ocean Quahog Fisheries; 2020 Fishing Quotas for Atlantic Surfclams and Ocean Quahogs; and Suspension of Minimum Atlantic Surfclam Size Limit

AGENCY: National Marine Fisheries Service (NMFS), National Oceanic and Atmospheric Administration (NOAA), Commerce.

ACTION: Final rule.

SUMMARY: NMFS announces that the quotas for the Atlantic surfclam and ocean quahog fisheries for 2020 will remain status quo. NMFS also suspends the minimum size limit for Atlantic surfclams for the 2020 fishing year. Regulations for these fisheries require NMFS to notify the public of the allowable harvest levels for Atlantic surfclams and ocean quahogs from the Exclusive Economic Zone if the previous year's quota specifications remain unchanged.

DATES: Effective January 1, 2020, through December 31, 2020.

FOR FURTHER INFORMATION CONTACT: Laura Hansen, Fishery Management Specialist, 978-281-9225.

SUPPLEMENTARY INFORMATION: The Atlantic Surfclam and Ocean Quahog Fishery Management Plan (FMP) requires that NMFS issue a notice in the Federal Register of the upcoming year's quota, even if the quota remains unchanged from the previous year. At its April 2019 meeting, the Mid-Atlantic Fishery Management Council approved changes to the overfishing limits (OFL) for the 2019 and 2020 fishing years. The OFL for the 2020 fishing year is 74,110 mt. The annual catch targets and commercial quota remain unchanged by the modification to the OFL. At its June 2019 meeting, the Council recommended no change to the quota specifications for Atlantic surfclams and ocean quahogs for the 2020 fishing year. We are announcing 2020 quota levels of 3.4 million bushels (bu) (181 million L) for Atlantic surfclams, 5.33 million bu (288 million L) for ocean quahogs, and 100,000 Maine bu (3.52 million L) for Maine ocean quahogs. These quotas were published as projected 2020 limits in the Federal Register on February 6, 2018 (83 FR 5212). This rule establishes these quotas as unchanged from 2019 and final.

The regulations at 50 CFR 648.75(b)(3) allow the Regional Administrator, to annually suspend, the minimum size limit for Atlantic surfclams unless discard, catch, and biological sampling data indicate that 30 percent or more of the Atlantic surfclam resource have a shell length less than 4.75 inches (121 mm) and the overall reduced size is not attributable to harvest from beds where growth of the individual clams has been reduced because of density-dependent factors. At its June 2019 meeting, the Council recommended the Regional Administrator suspend the minimum size limit for Atlantic surfclams for the 2020 fishing year. Commercial surfclam data for 2019 indicated that 22 percent of the overall commercial landings were composed of surfclams that were less than the 4.75-in (121-mm) default minimum size.

Based on the information available, the Regional Administrator concurs with the Council's recommendation, and is suspending the minimum size limit for Atlantic surfclams in the upcoming fishing year (January 1 through December 31, 2020).

Classification

Pursuant to section 304(b)(1)(A) of the Magnuson-Stevens Act, the Assistant Administrator for Fisheries, NOAA, has determined that this rule is consistent with the Atlantic Surfclam and Ocean Quahog FMP, other provisions of the Magnuson-Stevens Act, and other applicable law.

This action does not introduce any new reporting, recordkeeping, or other compliance requirements. This rule does not duplicate, overlap, or conflict with other Federal rules.

This rule is exempt from the requirements of E.O. 12866.

This rule is not expected to be an E.O. 13771 regulatory action because this rule is not significant under E.O. 12866.

The Chief Counsel for Regulation of the Department of Commerce certified to the Chief Counsel for Advocacy of the Small Business Administration during the proposed rule stage that this action would not have a significant economic impact on a substantial number of small entities. The factual basis for this certification was published in the proposed rule and is not repeated here. No comments were received regarding this certification. As a result, a regulatory flexibility analysis was not required and none was prepared.

Authority: 16 U.S.C. 1801 et seq.

Dated: February 4, 2020.
Samuel D. Rauch III,
Deputy Assistant Administrator for Regulatory Programs, National Marine Fisheries Service.

[FR Doc. 2020-02533 Filed 2-12-20; 8:45 am]

BILLING CODE 3510-22-P